DEPARTMENT OF THE INTERIOR

Bureau of Land Management

[AK-960-1410-PB-24-1A]

Extension of Approved Information Collection, OMB Approval Number 1004-0191

AGENCY: Bureau of Land Management, Interior.

ACTION: Notice and request for comments.

SUMMARY: In accordance with the Paperwork Reduction Act of 1995, the Bureau of Land Management (BLM) requests the Office of Management and Budget (OMB) to extend an existing approval to collect information from Alaska Native Vietnam Era Veterans interested in applying for a 160-acre allotment of Federal lands in Alaska. BLM uses Form AK 2561-10 to collect the requested information to determine if they qualify and are eligible to obtain a 160-acre allotment of Federal land in Alaska.

DATES: You must submit your comments to BLM at the address below on or before September 24, 2002. BLM will not necessarily consider any comments received after the above date.

ADDRESSES: You may mail comments to: Regulatory Affairs Group (WO-630), Eastern States Office, 7450 Boston Blvd., Springfield, Virginia 22153.

You may send comments via Internet to: WOComment@blm.gov. Please include “Attn: 1004-0191” and your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Dennis Benson, Alaska State Office, on (907) 271-3248 (Commercial or FTS). Persons who use a telecommunication device for the deaf (TDD) may call the Federal Information Relay Service (FIRS) on 1-800-877-8330, 24 hours a day, seven days a week, to contact Mr. Benson.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Under Section 432 of the Veterans Administration and Housing and Urban Development Appropriations Act (Public Law 105-276), the Alaska Native Claims Settlement Act was amended to include a new section which allows certain Alaska Native Vietnam Era Veterans to apply for native allotments. The implementing regulations are 43 CFR 2568—Alaska Native Allotments for Certain Veterans.

Based on BLM's experience administering this program, we estimate the public reporting burden to complete Form AK 2561-10 is 30 minutes and 27 hours and 30 minutes to gather and complete the required information such as marking the corners of the lands applied for, and requesting/completing a cadastral survey of the lands. BLM estimates that we receive 732 applications annually, with a total annual burden of 20,496 hours. The respondents are Alaskan Native Vietnam Era Veterans. The frequency of response is once for each applicant.

Any member of the public may request and obtain, without charge, a copy of BLM Form AK 2561-10 by contacting the person identified under FOR FURTHER INFORMATION CONTACT.

BLM will summarize all responses to this notice and include them in the request for OMB approval. All comments will become a matter of a public record.

Dated: July 16, 2002.
Michael H. Schwartz,
Bureau of Land Management, Information Collection Clearance Officer.

[FR Doc. 02-18888 Filed 7-25-02; 8:45 am]

BILLING CODE 4310-04-M